DEPARTMENT OF LABOR

Employment and Training Administration

Trade Adjustment Assistance Program: Training and Employment Guidance Letter Interpreting Federal Law; Correction

AGENCY: Employment and Training Administration, Labor.

ACTION: Correction.

SUMMARY: In notice document 04-22919 beginning on page 60903 in the issue of Wednesday, October 13, 2004, make the following correction:

On page 60903, the heading to the document was omitted and should be added to read: Employment and Training Advisory System, U.S. Department of Labor, Washington, DC 20210.

Classification: TAA.

Correspondence Symbol: ONR.

Date: November 6, 2003.

Signed in Washington, DC this 15th day of November, 2004.
Timothy F. Sullivan,
Director, Division of Trade Adjustment Assistance.

[FR Doc. E4-3273 Filed 11-19-04; 8:45 am]

BILLING CODE 4510-30-P